DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before March 20, 2012. Address written comments to Statutory Import Programs Staff, Room 3720, U.S. Department of Commerce, Washington, DC 20230. Applications may be examined between 8:30 a.m. and 5 p.m. at the U.S. Department of Commerce in Room 3720.

Docket Number: 12-004. Applicant: Max Planck Florida Institute, 5353 Parkside Dr MC 19-RE, Jupiter, FL 33458. Instrument: Freeze Fracture/Freeze Etch device. Manufacturer: JEOL Ltd., Japan. Intended Use: The instrument will be used to reveal the two-dimensional localization of membrane proteins using freeze fracture replica immuno-gold labeling, including all kinds of receptors and channels. Because freeze-fracture replica immuno-gold labeling has a high sensitivity for the detection of the epitope of the target molecules, small numbers of receptors that would be easily missed by LM or by conventional immuno-EM can be revealed using this instrument in particular unknown subcellular locations. Justification for Duty-Free Entry: There are no instruments of the same general category manufactured in the United States. Application accepted by Commissioner of Customs: February 8, 2012.

Dated: February 22, 2012.
Gregory Campbell,
Director, IA Subsidies Enforcement Office.

[FR Doc. 2012-4837 Filed 2-28-12; 8:45 am]

BILLING CODE 3510-DS-P